DEPARTMENT OF LABOR

Occupational Safety and Health Administration

[Docket No. OSHA-2012-0019]

National Advisory Committee on Occupational Safety and Health (NACOSH)

AGENCY: Occupational Safety and Health Administration (OSHA), Labor.

ACTION: Request for nominations to serve on NACOSH.

SUMMARY: The Assistant Secretary of Labor for Occupational Safety and Health requests nominations for membership on NACOSH. The terms of four NACOSH members will expire on December 8, 2012.

DATES: Nominations for NACOSH must be submitted (postmarked, sent or received) by September 10, 2012.

ADDRESSES: You may submit nominations for NACOSH, which must include the docket number for this Federal Register notice (Docket No. OSHA-2012-0019), by one of the following methods:

Electronically: You may submit nominations, including attachments, electronically at http://www.regulations.gov, which is the Federal eRulemaking Portal. Follow the instructions on-line for submitting nominations.

Facsimile: If your nomination, including attachments, does not exceed 10 pages, you may fax it to the OSHA Docket Office at (202) 693-1648.

Mail, express delivery, hand delivery, messenger or courier service: Submit your nomination to the OSHA Docket Office, Room N-2625, U.S. Department of Labor, 200 Constitution Avenue NW., Washington, DC 20210; telephone (202) 693-2350 (OSHA's TTY number is (877) 889-5627). Deliveries (hand, express mail, messenger and courier service) are accepted during the Department of Labor's and Docket Office's normal business hours, 8:15 a.m.-4:45 p.m., e.t, weekdays.

FOR FURTHER INFORMATION CONTACT: For press inquiries: Mr. Francis Meilinger, OSHA, Office of Communications, U.S. Department of Labor, Room N3647, 200 Constitution Avenue NW., Washington, DC 20210; telephone (202) 693-1999; email meilinger.francis2@dol.gov.

For general information: Ms. Deborah Crawford, OSHA, Directorate of Evaluation and Analysis, Room N3641, U.S. Department of Labor, 200 Constitution Avenue NW., Washington, DC 20210; telephone (202) 693-1932; fax (202) 693-1641; email crawford.deborah@dol.gov.

SUPPLEMENTARY INFORMATION: The Assistant Secretary of Labor for Occupational Safety and Health invites interested individuals to submit nominations for membership on NACOSH. Section 7(a) of the Occupational Safety and Health Act of 1970 (OSH Act) (29 U.S.C. 651, 656) authorizes NACOSH to advise the Secretary of Labor and the Secretary of Health and Human Services on matters relating to the administration of the OSH Act. NACOSH is a continuing advisory body and operates in accordance with the OSH Act, the Federal Advisory Committee Act (5 U.S.C. App. 2), and regulations issued pursuant to those laws (29 CFR Part 1912a, 41 CFR Part 102-3).

NACOSH is comprised of 12 members, all of whom the Secretary of Labor appoints. Nominations will be accepted for four vacancies. The composition of the Committee and categories of new members to be appointed are as follows:

• Four public representatives—one will be appointed;

• Two management representatives—one will be appointed;

• Two labor representatives—none will be appointed;

• Two occupational safety professional representatives—one will be appointed; and

• Two occupational health professional representatives—one will be appointed.

Pursuant to 29 CFR 1912a.2, the Secretary of Health and Human Services (HHS) will designate one of the occupational health professional representatives for appointment by the Secretary of Labor. Therefore, OSHA will provide to HHS all nominations and supporting materials for that membership category.

NACOSH members serve for staggered two-year terms, unless the member becomes unable to serve, resigns, ceases to be qualified to serve, or is removed by the Secretary of Labor. If a vacancy occurs before a term expires, the Secretary may appoint a new member who represents the same interest as the predecessor to serve the remainder of the unexpired term. The Committee meets at least two times a year (29 CFR 1912a.4).

Any interested person or organization may nominate one or more qualified persons for membership on NACOSH. Nominations must include the nominee's name, occupation or current position, and contact information. The nomination also must identify the category that the candidate is qualified to represent, and include a resume of the nominee's background, experience, and qualifications. In addition, the nomination must state that the nominee is aware of the nomination and is willing to serve on NACOSH for a two-year term.

The Secretary of Labor will appoint NACOSH members on the basis of their experience and competence in the field of occupational safety and health (29 CFR 1912a.2). The information received through this nomination process, in addition to other relevant sources of information, will assist the Secretary of Labor in appointing members to serve on NACOSH. In appointing NACOSH members, the Secretary of Labor will consider individuals nominated in response to this Federal Register notice, as well as other qualified individuals.

The U.S. Department of Labor is committed to equal opportunity in the workplace and seeks broad-based and diverse NACOSH membership. The Department will conduct a basic background check of nominees before their appointment using publicly available, Internet-based sources.

Public Participation—Submission of Nominations and Access to Docket

You may submit nominations (1) electronically at http://www.regulations.gov, the Federal eRulemaking Portal; (2) by facsimile (FAX); or (3) by hard copy. All comments, attachments and other material must identify the Agency name and docket number for this Federal Register notice (OSHA Docket No. OSHA-2012-0019). You may supplement electronic nominations by uploading document files electronically. If, instead, you wish to mail additional materials in reference to an electronic or fax submission, you must submit them to the OSHA Docket Office (see ADDRESSES section). The additional materials must clearly identify your electronic nomination by name, date, and docket number so OSHA can attach them to your nomination.

Because of security-related procedures, the use of regular mail may cause a significant delay in the receipt of nominations. For information about security procedures concerning the delivery of materials by hand, express delivery, messenger or courier service, please contact the OSHA Docket Office (see ADDRESSES).

OSHA posts submissions without change at http://www.regulations.gov. Therefore, OSHA cautions interested parties about submitting personal information such as Social Security numbers and birth dates. Although all submissions are listed in the http://www.regulations.gov index, some information (e.g., copyrighted material) is not publicly available to read or download through http://www.regulations.gov. All submissions, including copyrighted material, are available for inspection and copying at the OSHA Docket Office. Information on using the http://www.regulations.gov to submit comments and access the docket is available on that Web site. Contact the OSHA Docket Office for information about materials not available through that Web site and for assistance in using the internet to locate docket submissions.

Electronic copies of this Federal Register document also are available at http://www.regulations.gov. This document, as well as news releases and other relevant information, are available at OSHA's Web site at http://www.osha.gov.

Authority and Signature

David Michaels, Ph.D., MPH, Assistant Secretary of Labor for Occupational Safety and Health, directed the preparation of this notice under the authority granted by section 7 of the Occupational Safety and Health Act of 1970 (29 U.S.C. 656), the Federal Advisory Committee Act (5 U.S.C. App. 2); 29 CFR part 1912a; 41 CFR part 102-3; and Secretary of Labor's Order No. 1-2012 (77 FR 3912, 1/25/2012).

Signed at Washington, DC on July 20, 2012.
David Michaels,
Assistant Secretary of Labor for Occupational Safety and Health.

[FR Doc. 2012-18174 Filed 7-24-12; 8:45 am]

BILLING CODE 4510-26-P